DEPARTMENT OF ENERGY

Federal Energy Regulatory Commission

Combined Notice of Filings #2

Take notice that the Commission received the following electric rate filings:

Docket Numbers: ER10-3048-006.

Applicants: Longview Fibre Paper and Packaging, Inc.

Description: Notice of Non-Material Change in Status of Longview Fibre Paper and Packaging, Inc.

Filed Date: 8/19/13.

Accession Number: 20130819-5060.

Comments Due: 5 p.m. ET 9/9/13.

Docket Numbers: ER13-2189-000.

Applicants: Southwest Power Pool, Inc.

Description: 2509 Eva Wind, LLC GIA Cancellation to be effective 8/2/2013.

Filed Date: 8/19/13.

Accession Number: 20130819-5066.

Comments Due: 5 p.m. ET 9/9/13.

Docket Numbers: ER13-2190-000.

Applicants: Southwest Power Pool, Inc.

Description: 2198R10 Kansas Power Pool NITSA and NOA to be effective 8/1/2013.

Filed Date: 8/19/13.

Accession Number: 20130819-5067.

Comments Due: 5 p.m. ET 9/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2013.
Nathaniel J. Davis, Sr.,
Deputy Secretary.

[FR Doc. 2013-20692 Filed 8-23-13; 8:45 am]

BILLING CODE 6717-01-P